LEGAL SERVICES CORPORATION

Sunshine Act Meeting of the Board of Directors Audit Committee; Amended Notice; Change in Time at Which the Meeting Will Commence

Notice: The Legal Services Corporation (LSC) is announcing an amendment to the notice of the Board of Directors Audit Committee (Committee) meeting scheduled for Friday, October 31, 2008. The Committee meeting was announced in the Federal Register issue dated October 24, 2008, Volume 73, Number 207 (page 63515). The sole amendment to the notice is to the time at which the Committee's meeting will commence. Other than the change in start time from 2:30 p.m. to 2 p.m., there is no other change to the announcement cited above.

Meeting Schedule

Friday, October 31, 2008 | Time
Audit Committee | 2 p.m.¹
¹ All times set forth in this notice are Mountain Time.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: October 29, 2008.
Victor M. Fortuno,
Vice President, General Counsel & Corporate Secretary.

[FR Doc. E8-26207 Filed 10-30-08; 11:15 am]

BILLING CODE 7050-01-P